DEPARTMENT OF VETERANS AFFAIRS

[OMB Control No. 2900-0921]

Agency Information Collection Activity: Approval for Collection of Information for the Planning and Execution of National and Regional Veterans Day Observations

AGENCY: National Veterans Outreach Office (NVO), U.S. Department of Veterans Affairs (VA).

ACTION: Notice.

SUMMARY: The National Veterans Outreach Office of the U.S. Department of Veterans Affairs (VA) is announcing an opportunity for public comment on the agency's proposed collection of certain information. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before May 23, 2023.

ADDRESSES: Submit written comments on the collection of information through Federal Docket Management System (FDMS) at www.Regulations.gov or to National Veterans Outreach Office (002D), Office of Public and Intergovernmental Affairs, U.S. Department of Veterans Affairs, 810 Vermont Avenue NW, Room 915G, Washington, DC 20420 or email to Terri.Evans2@va.gov. Please refer to “2900-0921” in any correspondence. During the comment period, comments may be viewed online through FDMS.

FOR FURTHER INFORMATION CONTACT: Maribel Aponte, Office of Enterprise and Integration, Data Governance Analytics (008), 810 Vermont Ave. NW, Washington, DC 20006, (202) 266-4688 or email Maribel.Aponte@va.gov. Please refer to “VAF 0918d” in any correspondence.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, NVO invites comments on: (1) whether the proposed collection of information is necessary for the proper performance of NVO's functions, including whether the information will have practical utility; (2) the accuracy of NVO's estimate of the burden of the proposed collection of information; (3) ways to enhance the quality, utility, and clarity of the information to be collected; and (4) ways to minimize the burden of the collection of information on respondents, including through the use of automated collection techniques or the use of other forms of information technology.

Authority: 44 U.S.C. 3501-21. Under the PRA of 1995 (Pub. L. 104-13; 44 U.S.C. 3501-3521), Federal agencies must obtain approval from the Office of Management and Budget (OMB) for each collection of information they conduct or sponsor. This request for comment is being made pursuant to Section 3506(c)(2)(A) of the PRA.

Title: National and Regional Veterans Day Planning Collection.

OMB Control Number: 2900-0921.

Type of Review: Approval of a proposed collection.

Abstract: Since 1954, the U.S. Department of Veterans Affairs (VA) has overseen the National Veterans Day Observance at Arlington National Cemetery (ANC) to honor the men and women who have served and continue to serve in the U.S. Uniformed Services during war and peacetime. Hundreds of military Veterans from communities throughout America and leaders from across the federal government, including the President of the United States or his designee, participate in the National Veterans Day Observance at ANC each year. In addition, tens of thousands of others participate in VA-approved regional Veterans Day events.

The National Veterans Outreach Office is the VA team that plans and executes the National Veterans Day Observance. VA Forms 0918d, 0918e, 0918f, and 0918g are the instruments of collection for this activity. The information collected is used to collaborate with regional partners and select VA-approved Veterans Day observances across the country; evaluate Veteran-serving organizations for potential membership onto the Veterans Day National Committee; collect annual dues from Veterans Day National Committee members, per the committee's bylaws; and determine the number of custom Veterans Day lapel pins, National Observance invitations and bench seat tickets are required by each Veterans Day National Committee member organization. The collection requires the public to provide only the information necessary to support the planning efforts.

Affected Public: State and local governments; Veteran-serving non-profit organizations.

Estimated Annual Burden: 28 hours.

Estimated Average Burden per Respondent: 11 minutes.

Frequency of Response: On occasion.

Estimated Number of Respondents: 158.

By direction of the Secretary.
Maribel Aponte,
VA PRA Clearance Officer, Office of Enterprise and Integration/Data Governance Analytics, U.S. Department of Veterans Affairs.

[FR Doc. 2023-06035 Filed 3-23-23; 8:45 am]

BILLING CODE 8320-01-P